COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List products and services to be furnished by nonprofit agencies employing persons who are blind or have other severe disabilities.

EFFECTIVE DATE: May 4, 2003.

ADDRESS: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On December 6, 2002, January 10, January 17, January 24, and February 7, 2003, the Committee for Purchase From People Who Are Blind or Severely Disabled published notice (67 FR 72640, 68 FR 1434, 2498, 3508, and 6403) of proposed additions to the Procurement List. After consideration of the material presented to it concerning capability of qualified nonprofit agencies to provide the products and services and impact of the additions on the current or most recent contractors, the Committee has determined that the products and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products

Product/NSN: Protective Combat Uniform (Requirements for Natick Only)

8415-00-NSH-0626, Level 1, T-Shirt

8415-00-NSH-0627, Level 1, Boxer

8415-00-NSH-0628, Level 1, Long Sleeve Shirt

8415-00-NSH-0629, Level 1, Pant

8415-00-NSH-0630, Level 2, Long Sleeve Shirt

8415-00-NSH-0631, Level 2, Pant

NPA: Southeastern Kentucky Rehabilitation Industries, Inc., Corbin, Kentucky.

Contract Activity: U.S. Army Robert Morris Acquisition Center, Natick, Massachusetts.

Product/NSN: Protective Combat Uniform (Requirements for Natick Only)

8415-00-NSH-0632, Level 3, Jacket.

NPA: Southside Training Employment Placement Services, Inc., Victoria, Virginia.

Contract Activity: U.S. Army Robert Morris Acquisition Center, Natick, Massachusetts.

Product/NSN: Protective Combat Uniform (Requirements for Natick Only)

8415-00-NSH-0659, Level 4, Windshirt.

8415-00-NSH-0633, Level 5, Soft-shell Jacket.

8415-00-NSH-0634, Level 5, Soft-shell Pant.

8415-00-NSH-0635, Level 6, Wet Weather Jacket.

8415-00-NSH-0636, Level 6, Wet Weather Pant.

NPA: ORC Industries, Inc., La Crosse, Wisconsin.

Contract Activity: U.S. Army Robert Morris Acquisition Center, Natick, Massachusetts.

Product/NSN: Protective Combat Uniform (Requirements for Natick Only)

8415-00-NSH-0637, Level 7, Pant.

8415-00-NSH-0638, Level 7, Vest.

8415-00-NSH-0690, Level 7, Jacket.

NPA: Southeastern Kentucky Rehabilitation Industries, Inc., Corbin, Kentucky.

Contract Activity: U.S. Army Robert Morris Acquisition Center, Natick, Massachusetts.

Services

Service Type/Location: Custodial Service, James M. Hanley Federal Building and U.S. Courthouse, Syracuse, New York.

NPA: Oswego Industries, Inc., Fulton, New York.

Contract Activity: GSA/PBS Upstate New York Service Center, Syracuse, New York.

Service Type/Location: Electronic Service Customer Representative Service. Securities & Exchange Commission Library, Washington, DC

NPA: Columbia Lighthouse for the Blind, Washington, DC.

Contract Activity: U.S. Securities and Exchange Commission, Alexandria, Virginia.

Service Type/Location: Janitorial/Custodial, Area Maintenance Support Activity (AMSA) #110, New Castle, Pennsylvania.

NPA: Lark Enterprises, Inc., New Castle, Pennsylvania.

Contract Activity: 99th Regional Support Command, Coraopolis, Pennsylvania.

Service Type/Location: Janitorial/Custodial, U.S. Army Reserve Center, Cincinnati, Ohio.

NPA: CRI, Cincinnati, Ohio

Contract Activity: Headquarters, 88th Regional Support Command, Fort Snelling, Minnesota.

Service Type/Location: Janitorial/Custodial, U.S. Army Reserve Center, Duluth, Minnesota.

NPA: Goodwill Industries Vocational Enterprises, Inc., Duluth, Minnesota.

Contract Activity: Headquarters, 88th Regional Support Command, Fort Snelling, Minnesota.

This action does not affect current contracts awarded prior to the effective date of this addition or options that may be exercised under those contracts.

Sheryl D. Kennerly,
Director, Information Management.

[FR Doc. 03-8252 Filed 4-3-03; 8:45 am]

BILLING CODE 6353-01-P